DEPARTMENT OF COMMERCE

International Trade Administration

[C-533-839]

Carbazole Violet Pigment 23 From India: Initiation of Countervailing Duty New Shipper Review

AGENCY: Enforcement and Compliance, International Trade Administration, Department of Commerce.

SUMMARY: The U.S. Department of Commerce (Commerce) has determined that a request for a new shipper review (NSR) of the countervailing duty (CVD) order on carbazole violet pigment 23 (CVP-23) from India meets the statutory and regulatory requirements for initiation. The period of review (POR) for this NSR is January 1, 2022, through December 31, 2022.

DATES: Applicable August 2, 2023.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

Commerce published the CVD order on CVP-23 from India on December 29, 2004.¹ On January 20, 2023, pursuant to section 751(a)(2)(B)(i) of the Tariff Act of 1930, as amended (the Act), and 19 CFR 351.214(c), Commerce received a timely NSR request from Sudarshan Chemical Industries Limited (Sudarshan Chemical).²

¹ See Notice of Countervailing Duty Order: Carbazole Violet Pigment 23 from India, 69 FR 77995 (December 29, 2004) (Order).

² See Sudarshan Chemical's Letter, “Request for Initiation of a New Shipper Review of the Countervailing Duty Order (C-533-839),” dated January 20, 2023 (Sudarshan Chemical's NSR Request).

In its submission, Sudarshan Chemical certified that it is the producer and exporter of the subject merchandise subject to this NSR request.³ Pursuant to section 751(a)(2)(B)(I) of the Act and 19 CFR 351.214(b)(2)(i), Sudarshan Chemical certified that it did not export CVP-23 to the United States during the period of investigation (POI).⁴ Additionally, pursuant to section 751(a)(2)(B)(i)(II) of the Act and 19 CFR 351.214(b)(2)(iii)(A), Sudarshan Chemical certified that, since the initiation of the CVD investigation, it has not been affiliated with any producer or exporter that exported CVP-23 to the United States during the POI, including those not individually examined during the CVD investigation.⁵

³ Id. at Exhibit 1.

⁴ Id.

⁵ Id.

In its submission, pursuant to 19 CFR 351.214(b)(2)(iv), Sudarshan Chemical certified that it would provide necessary information related to the unaffiliated customer in the United States during this NSR.⁶ Sudarshan Chemical also provided a certification by its unaffiliated customer of its willingness to participate in this NSR.⁷

⁶ Id.

⁷ Id. at Exhibit 2.

In addition to the certifications described above, pursuant to 19 CFR 351.214(b)(2)(v), Sudarshan Chemical submitted documentation establishing the following: (1) the date on which the subject merchandise was first entered, or withdrawn from warehouse, for consumption; (2) the volume of its first shipment and any subsequent shipments, including whether such shipments were made in commercial quantities; and (3) the date of its first sale and any subsequent sales to an unaffiliated customer in the United States.⁸ Finally, pursuant to 19 CFR 351.214(b)(2)(vi), Sudarshan Chemical submitted a certification that it informed the Government of India (GOI) that the GOI will be required to provide a full response to Commerce's questionnaire.

⁸ Id. at Exhibits C and D.

Commerce queried the database of U.S. Customs and Border Protection (CBP) to confirm whether the shipment reported by Sudarshan Chemical had entered the United States for consumption and that liquidation had been suspended as subject to the Order.⁹ The CBP Entry Data for which Commerce examined were consistent with the information submitted by Sudarshan Chemical in its NSR request. In particular, the CBP Entry Data confirmed the price and quantity reported by Sudarshan Chemical for the sale that forms the basis for its NSR request. Finally, Commerce's examination of the CBP Entry Data also leads it to conclude that this sale is a suspended/Type-3 entry.

⁹ See Memorandum, “Release of U.S. Customs and Border Protection Data Query Results,” dated May 30, 2023, at Attached Excel Data File (CBP Entry Data).

Period of Review

In accordance with 19 CFR 351.214(g)(2), in a countervailing duty proceeding, the POR for an NSR will be the same period as that specified in 19 CFR 351.213(e)(2) for a CVD administrative review. Section 351.213(e)(2)(i) of Commerce's regulations provides that a CVD administrative review normally will cover entries or exports of subject merchandise during the most recently completed calendar year. Because Sudarshan Chemical's NSR Request was submitted on January 20, 2023, the POR for this NSR will be January 1, 2022, through December 31, 2022 (i.e., the most recently completed calendar year prior to the date of Sudarshan Chemical's NSR Request).

Initiation of New Shipper Review

Pursuant to section 751(a)(2)(B) of the Act and 19 CFR 351.214(b), and based on the information on the record, Commerce finds that Sudarshan Chemical's NSR Request meets the threshold requirements for initiating an NSR of its shipments of CVP-23 from India to the United States.¹⁰ However, if the information submitted by Sudarshan Chemical is later found to be incorrect or insufficient during the course of this NSR, Commerce may rescind the review or apply adverse facts available, pursuant to section 776 of the Act, as appropriate. Pursuant to 19 CFR 351.221(c)(1)(i), Commerce will publish the notice of initiation of an NSR no later than the last day of the month following the anniversary or semiannual anniversary month of the order. Commerce intends to issue the preliminary results of this NSR no later than 180 days from the date of initiation, and the final results of this review no later than 90 days after the date the preliminary results are issued.¹¹

¹⁰ See, generally, Sudarshan Chemical's NSR Request; see also New Shipper Initiation Checklist: Sudarshan Chemical Industries Limited, dated concurrently with this notice.

¹¹ See section 751(a)(2)(B)(iii) of the Act.

We intend to conduct this NSR in accordance with section 751(a)(2)(B) of the Act.¹² Because Sudarshan Chemical certified that it exported subject merchandise, the sale of which is the basis for its NSR request, Commerce will instruct CBP to suspend, or continue to suspend, liquidation of all entries of subject merchandise produced/or exported by Sudarshan.

¹² The Act was amended by the Trade Facilitation Trade Enforcement Act of 2015, which removed from section 751(a)(2)(B) of the Act the provision directing Commerce to instruct CBP to allow an importer the option of posting a bond or security in lieu of a cash deposit during the pendency of an NSR. This was also codified in Commerce's regulations at 19 CFR 351.214(e).

Interested parties requiring access to proprietary information in this NSR should submit applications for disclosure under administrative protective order in accordance with 19 CFR 351.305 and 351.306.

This initiation notice is published in accordance with section 751(a)(2)(B) of the Act and 19 CFR 351.214 and 351.221(c)(1)(i).

Dated: July 26, 2023.
James Maeder,
Deputy Assistant Secretary for Antidumping and Countervailing Duty Operations.

[FR Doc. 2023-16466 Filed 8-1-23; 8:45 am]

BILLING CODE 3510-DS-P